DEPARTMENT OF ENERGY

Federal Energy Regulatory Commission

[Docket Nos. RP04-248-002 and RP04-251-003]

El Paso Natural Gas Company; Notice of Corrected Tariff Sheet

February 15, 2005.

Take notice that on January 21, 2005, El Paso Natural Gas Company (El Paso) tendered for filing as part of its FERC Gas Tariff, Second Revised Volume No. 1A, the following corrected tariff sheets, with an effective date of February 20, 2005:

Fifth Revised Sheet No. 215A

El Paso states that on January 14, 2005, it incorrectly designated Sheet No. 215A as Fourth Revised Sheet No. 215A and not Fifth Revised Sheet No. 215A. El Paso is re-submitting the above-referenced tariff sheet as the corrected sheet.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on February 22, 2005.

Magalie R. Salas,
Secretary.

[FR Doc. E5-724 Filed 2-22-05; 8:45 am]

BILLING CODE 6717-01-P